DEPARTMENT OF HEALTH AND HUMAN SERVICES

Administration for Children and Families

Submission for OMB Review; Comment Request

Title: LIHEAP Household Report

OMB No.: 0970-0060

Description: The report is an annual activity which is required by law of Low Income Home Energy Assistance Program (LIHEAP) grantees for receipt of federal LIHEAP block grant funds. States, the District of Columbia, and the Commonwealth of Puerto are required to report statistics for the previous federal fiscal year on the number and income levels of LIHEAP applicant and assisted households, and the number of LIHEAP assisted households with at least one member who is elderly, disabled or a young child. Insular areas receiving less than $200,000 annually in LIHEAP funds and Indian Tribal Grantees are required to submit data only on the number of households receiving heating, cooling, energy crisis, or weatherization benefits. The information is being collected for the Department's annual LIHEAP report to Congress. The data also provide information about the need for LIHEAP funds. Finally, the data are being used in the calculation of LIHEAP performance measures under the Government Performance Results Act of 1993.

Respondents: State Governments, Tribal Governments and Territories

Annual Burden Estimates
Instrument | Number of respondents | Number of responses per respondent | Average burden hours per response | Total burden hours
Recommended LF LIHEAP assist. household | 52 | 1 | 25 | 1,300
Recommended SF LIHEAP assist. household | 132 | 1 | 1 | 132
Recommended format for LIHEAP applicant households | 52 | 1 | 13 | 676
Estimated Total Annual Burden Hours |  |  |  | 2,108

Additional Information

Copies of the proposed collection may be obtained by writing to The Administration for Children and Families, Office of Information Services, 370 L'Enfant Promenade, S.W., Washington, D.C. 20447, Attn: ACF Reports Clearance Officer.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, N.W., Washington, D.C. 20503, Attn: Desk Officer for ACF.

Dated: July 11, 2000.
Bob Sargis,
Reports Clearance Officer.

[FR Doc. 00-17938 Filed 7-14-00; 8:45 am]

BILLING CODE 4184-01-M